DEPARTMENT OF VETERANS AFFAIRS

Funding Availability: Homeless Providers Grant and Per Diem Program

AGENCY: Department of Veterans Affairs (VA), Veterans Health Administration (VHA), VA Homeless Providers Grant and Per Diem (GPD) Program.

ACTION: Notice of Funding Availability (NOFA).

SUMMARY: VA is announcing the availability of per diem funds to eligible entities to provide transitional housing beds under VA's Homeless Providers GPD Program models. VA expects to fund 1,500 beds with this NOFA for applicants who will use one or a combination of the following housing models: Bridge Housing, Low Demand, Hospital-to-Housing, Clinical Treatment, and Service-Intensive Transitional Housing and Service Centers.

DATES: An original signed and dated application for assistance (plus two completed collated copies) for VA's Homeless Providers GPD Program and associated documents must be received by the GPD Program Office by 4:00 p.m. Eastern Standard Time February 28, 2018 (see application requirements below).

ADDRESSES: Grant applications must be submitted to the following address: VA Homeless Providers GPD Program Office, 10770 N. 46th Street, Suite C-200, Tampa, Florida 33617.

FOR FURTHER INFORMATION CONTACT: Mr. Jeffery L. Quarles, Director, VA Homeless Providers GPD Program, Department of Veterans Affairs, 10770 N. 46th Street, Suite C-200, Tampa, FL 33617; (toll-free) 1- (877) 332-0334.

SUPPLEMENTARY INFORMATION:

Funding Opportunity Description

This NOFA announces the availability of per diem funding to 501(c)(3) and 501(c)(19) non-profit organizations, State and Local governments, and Indian Tribal governments to provide a minimum of five transitional housing beds. No more than 40 beds per model, per medical center, per each applicant's Employer Identification Number (EIN) will be allowed under this NOFA. Applicants must apply for funding using one or more of these models, and a separate application is required for each model. Applicants agree to meet the applicable requirements of 38 CFR part 61. In addition, all applications for these housing models need to demonstrate low barriers to accessing service as well as policies and procedures to work with Veterans who relapse.

Housing Models Descriptions

Bridge Housing

Targeted Population—Homeless Veterans who have been offered and have accepted a permanent housing intervention (e.g., Supportive Services for Veteran Families (SSVF), Department of Housing and Urban Development-VA Supportive Housing (HUD-VASH), Housing Coalition/Continuum of Care (CoC)), but are not able to immediately enter the permanent housing. Other permanent housing may also be identified (e.g., purchase of a home, or an apartment lease). Applicants should review the availability of the community's permanent housing prior to applying under this model so as to avoid not being able to move Veterans to permanent housing as quickly as possible.

Model Overview—Bridge housing is intended to be a short-term stay in transitional housing for Veterans with pre-identified permanent housing destinations.

Characteristics & Standards—Goals in the Individual Service Plan should be short-term with the focus on the move to permanent housing, rather than the completion of treatment goals. Veterans are expected to receive case management and support, which should be coordinated with the HUD-VASH, SSVF, or other available community-based programs. Grantees will assist Veterans with accessing services as needed/requested by the Veteran and must make available to participants a menu of available services.

Length of Stay (LOS) will be individually determined based on need, but in general, is not expected to exceed 90 days.

Admission Criteria—Veterans must have been offered and accepted a permanent housing intervention prior to admission or within the first 14 days of admission.

Required Minimum Performance Metrics/Targets—Discharge to permanent housing is 70 percent. Negative Exits target is less than 23 percent. Negative exits are defined as those exits from a GPD program for a violation of program rules, failure to comply with program requirements, or leaving the program without consulting staff.

Low Demand

Targeted Population—Chronically homeless Veterans who suffer from mental-health or substance-use problems, or who struggle with maintaining sobriety; and Veterans with multiple treatment failures who may have never received treatment services, or may have been unsuccessful in traditional housing programs. These Veterans may have not yet fully committed to sobriety and treatment.

Model Overview—Low-Demand housing uses a low-demand/harm-reduction model to better accommodate chronically homeless Veterans, and Veterans who were unsuccessful in traditional treatment settings. Programming does not require sobriety or compliance with mental health treatment as a condition of admission or continued stay. Overall, demands are kept to a minimum; however, services are available as needed. The goal is to establish permanent housing in the community, while providing for the safety of staff and residents.

Characteristics & Standards—Project is small in size (typically 20 beds or less); Services must include case management, substance-use, and mental-health treatment; and referrals for benefits are made available as Veterans engage;

Must provide the participant an orientation that sets the expectations of performance for the participant; Must have 24/7, on-site staffing at the same location as the location of the program participant. (Use of resident managers is not allowed);

Must have a method to monitor participant and guests' comings and goings;

Must have a system in place for the management of the introduction of contraband;

Must be willing to retain Veterans who commit minor infractions of rules and who cannot and/or will not stop drinking and/or using legal or illegal substances;

Must be committed to keeping the Veterans housed, staying continuously engaged with each Veteran and provide services as needed;

Must have procedures to ensure safety of staff and residents, and the grantee agency must participate in bi-monthly calls and an annual fidelity assessment process as established by VA.

Required Minimum Performance Metrics/Targets—Discharge to permanent housing is 50 percent and negative exit target is less than 23 percent. Negative exits are defined as those exits from a GPD program for a violation of program rules, failure to comply with program requirements, or leaving the program without consulting staff.

Hospital-to-Housing

Targeted Population—Homeless Veterans identified and evaluated in emergency departments and inpatient care settings for suitability for direct transfer to a designated GPD Program for transitional housing and supportive care.

Model Overview—Respite care is a medical model to address the housing and recuperative care needs of homeless Veterans who have been hospitalized.

Characteristics & Standards—Housing sites are expected to be in close proximity to the referring medical center so that ongoing clinical care, including specialty care, can continue to be provided;

Have a post-discharge care plan as pre-requisite to program placement that addresses ongoing physical, mental health, substance use disorder, and social work needs as well as care management plans to transition the Veteran to permanent housing upon clinical stabilization;

The VA Homeless Patient Aligned Care Team (H-PACT), or other appropriate care unit, will facilitate and coordinate the ongoing care needs upon transition;

A Memorandum of Understanding must be in place with the local medical center that details participation in the Hospital-to-Home (H2H) program. Included in this should be a detailing of acceptance criteria for Veterans being referred from local facility emergency departments and inpatient wards, a detailing of how follow-up care with the medical center is organized, and a commitment to engaging enrolled Veterans in permanent housing as part of program objectives.

Admission Criteria—Individual must be functional, be able to perform independent Activities of Daily Living (ADL), not require acute detox, have no apparent psychosis, and have a post discharge plan coordinating care with the medical center (e.g., H-PACT Team, Mental Health, Substance Abuse, etc.).

Required Minimum Performance Metrics/Targets—Discharge to permanent housing is 65 percent and negative exit target is less than 23 percent. Negative exits are defined as those exits from a GPD program for a violation of program rules, failure to comply with program requirements, or leaving the program without consulting staff.

Clinical Treatment

Targeted Population—Homeless Veterans with a specific diagnosis related to a substance-use disorder and/or mental-health diagnosis; Veteran actively chooses to engage in clinical services.

Model Overview—Clinically focused treatment provided in conjunction with services effective in helping homeless Veterans secure permanent housing and increase income through benefits and/or employment.

Characteristics & Standards—Although the programming and services have a strong clinical focus, permanent housing and increased income are a required outcome of the program. Treatment programs must incorporate strategies to increase income and housing attainment services;

Individualized assessment, services, and treatment plan which are tailored to achieve optimal results in a time efficient manner and are consistent with sound clinical practice;

Program stays are to be individualized based upon the individual service plan for the Veteran (not program driven);

Staff are to be licensed and/or credentialed to perform the substance-use disorder (SUD)/mental health (MH) services provided as directed by State and Local law, treatment services must be provided by the applicant or through contract arrangement (VA staff cannot not be the treatment provider for this model); and

Veterans are offered a variety of treatment service modalities (e.g., individual and group counseling/therapy, family support groups/family therapy, and psychoeducation).

Required Minimum Performance Metrics/Targets—Discharge to permanent housing is 65 percent; employment of individuals at discharge is 50 percent; and negative exit target is less than 23 percent. Negative exits are defined as those exits from a GPD program for a violation of program rules, failure to comply with program requirements, or leaving the program without consulting staff.

Service-Intensive Transitional Housing

Targeted Population—Homeless Veterans who choose a supportive transitional housing environment providing services prior to entering permanent housing.

Model Overview—Provides transitional housing and a milieu of services that facilitate individual stabilization and movement to permanent housing as rapidly as clinically appropriate.

Characteristics & Standards—Scope of services should incorporate tactics to increase the Veteran's income through employment and/or benefits and obtaining permanent housing. Services provided and strategies used by the applicant will vary based on the individualized needs of the Veteran and resources available in the community. Applicant specifies the staffing levels and range of services to be provided.

Required Minimum Performance Metrics/Targets—Discharge to permanent housing is 65 percent; employment of individuals at discharge is 50 percent; and negative exit target is less than 23 percent.

Service Centers

Targeted Population—Homeless Veterans who are seeking assistance with obtaining housing, employment, medical care, or benefits.

Model Overview—Provides services and information to engage and aid homeless Veterans obtain housing and services.

Characteristics & Standards—Scope of services should incorporate tactics to engage and aid the Veteran. Services provided and strategies used by the applicant will vary based on the individualized needs of the Veteran and resources available in the community. Applicant specifies the staffing levels and range of services to be provided.

Eligibility Information: To be eligible, an applicant must be a 501(c)(3) or 501(c)(19) non-profit agency, State or local government agency or recognized Indian Tribal Government (38 U.S.C. 2011, 2012).

Transition in Place (TIP) grantees do not need to respond to this NOFA as their awards have established time limits and will be addressed under separate NOFAs.

Authority: Funding applied for under this NOFA is authorized by 38 U.S.C. 2011, 2012.

Award Information

Overview

This NOFA announces the availability of per diem funding to eligible entities; 501(c)(3) and 501(c)(19) non-profit organizations, State and Local governments, and Indian Tribal governments. A minimum of five transitional housing beds and no more than 40 beds per model, per medical center, per each applicant's Employer Identification Number (EIN) will be allowed under this NOFA.

VA expects to fund approximately 1,500 beds with this NOFA. (See additional budget information in this NOFA for calculation of bed days of care). Applicants applying for more than one model at the same VAMC should take into account that VA will only award up to two applications per medical center, per applicant EIN.

Cost Sharing or Matching: None.

Funding Period: Funding awarded under this NOFA will be for a period of 1 year with a 1-year option for renewal, beginning on October 1, 2018, and ending on September 30, 2019.

Payment: Per diem will be paid in a method that is in accordance with VA and other Federal fiscal requirements. The per diem payment calculation may be found at 38 CFR 61.33. Awardees will be subject to requirements of this NOFA, GPD regulations, 2 CFR 200, and other Federal grant requirements. A full copy of the regulations governing the GPD Program is available at the GPD Web site at: https://www.va.gov/HOMELESS/GPD.asp

Funding Priorities: VA has established the following funding priorities based on a gap analysis of existing and anticipated VA transitional housing needs within Continuums of Care (COC) nationwide. Applicants must identify and link their application to a specific COC. VA will then place that application into the correct funding priority. Applicants who fail to identify a COC will be placed in the last funding priority.

Funding Priority 1. VA expects to fund approximately 300 beds in the first funding priority. VA will place in the first funding priority those applications that identify the location of services to be provided are in the following COCs: AK-500 Anchorage; AK-501 Alaska Balance of State; CA-501 San Francisco; CA-502 Oakland/Alameda; CA-503 Sacramento; CA-600 Los Angeles; WA-500 Seattle/King. Applications will then be ranked within the funding priority. The highest ranking applications in funding priority one will be selected for funding first until approximately 300 beds have been selected. Those applications not selected will fall to the third funding priority.

Funding Priority 2. VA expects to fund approximately 200 beds in the second funding priority. VA will place in the second funding priority those applications that identify the location of services to be provided are in the following COCs: AZ-502 Phoenix/Mesa/Maricopa; CA-606 Long Beach; HI-501 Honolulu; LA-503 New Orleans; MD-505 Baltimore; OR-501 Portland-Gresham-Multnomah; and TX-600 Dallas City and County/Irving. Applications will then be ranked within the funding priority. The highest ranking, applications in funding priority two will be selected for funding until approximately 200 beds have been selected. Those applications not selected will fall to the third funding priority.

Funding Priority 3. VA expects to fund approximately 1,000 beds in the third funding priority. VA will place in the third funding priority those applications not selected in funding priorities one and two as well as those applications that identify the location of services to be provided are in any of the United States COCs. Applications will then be ranked within the funding priority. The highest ranking, applications in funding priority three will be selected for funding until approximately 1,000 beds have been selected or funding is expended whichever comes first.

Application Review Information

A. Criteria for Grants: Rating criteria may be found at 38 CFR 61.13 & 61.32.

B. Review and Selection Process: Review and selection process may be found at 38 CFR 61.13, 61.32.

Allocation of Funds: Funding will be awarded under this NOFA depending on funding availability and subject to program authorization. Funding will be for a period beginning on October 1, 2018, and ending on September 30, 2019, with a 1-year option for renewal based on funding availability, the recipient meeting performance goals, and the results of a VA inspection.

Funding Actions: Conditionally selected applicants will be asked to submit additional information under 38 CFR 61.32(c). Applicants will then be notified of the deadline to submit such information. If an applicant is unable to meet any conditions for the grant award within the specified time frame VA may non-select the applicant and use the funding for another applicant. Should an applicant submitting multiple applications not have all its applications funded, VA may negotiate bed numbers with the applicant at this time for those applications that were conditionally selected and incorporate that number into the grant agreement. Upon signature of the grant agreement by the Secretary or designated representative, final selection will be completed and the grant funds will be obligated for the funding period.

Grant Award Period: Applicants that are finally selected may expect the award to begin approximately on October 1, 2018, and end on September 30, 2019, with one option to renew for another year. VA will make an initial award for the first year of operation. The application is submitted with a one-year budget. Continuation funding is not guaranteed. Factors to be considered in awarding continuation grants will include satisfactory performance, demonstrated capacity to manage the grant, compliance with grant requirements, agency priorities, and the availability of appropriated funds. VA reserves the right to adjust the amount of a grant or elect not to continue funding for subsequent years.

Funding Restrictions: No part of an award under this NOFA may be used to facilitate capital improvements or to purchase vans or real property. Questions regarding acceptability should be directed to VA's National GPD Program Office at the number listed in contact information. Applicants may not receive funding to replace funds provided by any Federal, state, or local Government agency or program to assist homeless persons.

Flexibility of Beds: For those applicants that are successfully funded for multiple models under this NOFA, VA will allow, without a change of scope, a flex of beds between the applicant's models at the same VAMC. This flex will be up to five (5) beds or 15 percent of the total awarded bed limit per medical center, whichever is greater. Successful applicants who seek a greater number of flex beds than what is allowed must receive prior written approval from the National GPD Program Office.

Cost Sharing or Matching: None.

Application and Submission Information

Address to Obtain Grant Application: Download the standard forms directly from VA's Grant and Per Diem Program Web page at: http://www.va.gov/homeless/GPD.asp. The additional documents that must also be included with the application are listed below in the Content and Form of Application section of this NOFA. Questions should be referred to the GPD Program Office at (toll-free) 1 (877) 332-0334.

Content and Form of Application: The Department is seeking to refocus programs and resources to better serve the homeless Veteran population. Therefore, applicants should note that a separate application for each housing model will be required. Each will be scored separately.

Applicants should review their relationships with VAMCs and group their projects by medical center, selecting those models that are best suited. If your agency is unclear on what application, or the number of applications, to submit, contact the GPD National Program Office for clarification prior to submission of any application to ensure it is submitting the correct format.

Applicants should use a normal business format, single-spaced lines, typed, single sided pages, in Arial 12 font. Applicants should write out the question first followed by the respective response. The narrative outline should be labeled with the same titles and in the same order as this NOFA. Applicants should simply binder clip the application; do not staple, spiral bind, or fasten the application. Do not include brochures or other information not requested. The application consists of two parts. The first part will consist of Standard Forms and the second part will be provided by applicants and consist of supporting documentation, project narratives, and tables/spreadsheets in a standard business format.

Applicants should ensure that they include all required documents in their application, carefully follow the format, and provide the information requested and described below. Submission of an incorrect, incomplete, or incorrectly formatted application package will result in the application being rejected before being ranked.

Application Documentation Required

1. Standard Forms (approximately 9 pages):

(a) SF 424 Application for Federal Assistance.

(b) SF 424 A Non-Construction Budget.

(c) SF 424 B Non-Construction Assurances.

2. Eligibility to Receive VA Assistance: (approximately 3 pages).

Nonprofit Organizations must provide documentation of accounting system certification and evidence of private nonprofit status. This must be accomplished by:

(a) Providing certification on letterhead stationery from a Certified Public Accountant or Public Accountant that the organization has a functioning accounting system that is operated in accordance with generally accepted accounting principles, or that the organization has designated a qualified entity to maintain a functioning accounting system. If such an entity is used, their name and address must be included in the certification letter; and

(b) Providing evidence of their status as a nonprofit organization by submitting a copy of their IRS ruling providing tax-exempt status under the IRS Code of 1986, as amended.

3. Documentation of being actively registered in the System for Award Management (SAM) (approximately 1 page): Provide a printed copy of your agency's active registration in SAM to include the Data Universal Numbering System (DUNS), the number which corresponds to the information provided on the Application for Federal Assistance (SF424) and current Commercial and Government Entity (CAGE) code. Additionally, provide the complete legal business address that corresponds to the address registered with SAM, including the USPS five-digit zip code plus the four-digit extension code.

4. State/Local Government.

Applicants who are state or local governments must provide a copy of any comments or recommendations by approved state and (area wide) clearinghouses pursuant to Executive Order 12372.

5. Project Summary (approximately 3 pages): Provide the following:

(a) The name of the closest VA Medical Center;

(b) Name and number of the Continuum of Care (COC) of where the project application will be located ____.

(c) Description of the number of beds your agency is requesting per diem and the housing model to be provided at the VA facility identified in question 5(a):

Number of Beds: ____

Housing Model: (i.e., Bridge Housing, Low Demand, Hospital to Home, Clinical Treatment, Service-Intensive Transitional Housing.)

or

Number of Service Center Visits (annually): ____

(d) Whether your agency is submitting additional applications to provide other housing models or a service center at the facility referenced in question 5(a). (yes/no)

If yes, identify the model and the number of beds to be provided under that model;

(e) Location of housing and services provided under this application:

Address:

City:

State:

Zip Code + 4 digit extension:

County the site is located in:

Additional Counties served by the project:

Congressional District:

(f) Under this application and model, describe how the facility participant living space will be configured. Include the square footage of the room or bay, the number of beds in that square footage and if the beds will be bunked (i.e., Single Room Occupancy, 100 square feet, no bunk beds; Open Bay, 900 square feet, 12 beds, 4 sets of bunk beds; Apartment(s), 1500 square feet, 1,2, or 3 bedroom(s) no bunk beds):

(g) Whether this project serving men, women, or both genders;

(h) Description of any additional populations or types of housing being served/provided at this location (i.e., children, women, permanent housing, contract care). If none, so state.

6. Contact Information (approximately 4 pages): Where correspondence can be sent to the Executive Director/President/CEO.

(a) Please provide the following:

Agency Name:

Physical Address of Administrative Office: (no P.O. Boxes)

City:

State:

Zip + 4 digit extension:

County:

Congressional District:

Telephone number:

Alternate Mailing Address: (If you would prefer regular mail be sent to a P.O. Box).

City:

State:

Zip:

(b) Name and title of Executive Director/President/CEO (phone, fax, and email address);

(c) Name and title of another management level employee, (phone, fax, and email address) who can sign commitments for the agency;

(d) A complete listing of your agency's officers of the Board of Directors and their address, phone, fax, and email addresses.

7. Project Abstract: On not more than one page provide a brief abstract of the project to include: Project design, supportive services committed to the project, types of assistance provided, and any special program provisions.

8. Detailed Project Plan: This is the portion of the application that describes your program. VA Reviewers will focus on how the project plan addresses the areas of outreach, project plan, model specific questions, ability, need, and coordination in relation to your selected model. Please note there are some questions that only apply to specific models (Bridge, Clinical Treatment, Low Demand, Hospital-to-Housing), Applicants applying for these models must include responses to these questions in their application.

VA expects applicants awarded under this NOFA will meet the VA performance metrics for the selected model. With those metrics in mind, please include in your agency's responses to the following sections your agency strategies to meet or exceed VA's national metric targets.

(a) Outreach—In approximately 5 pages, describe how your agency outreach plan is tailored to the specific model chosen and seeks to provide for services Veterans living in places not ordinarily meant for human habitation (e.g., streets, parks abandon buildings, automobiles and emergency shelters) by answering the following:

1. Outreach—Describe your agency's outreach plan and frequency of your selected Veteran population(s) living in places not ordinarily meant for human habitation (e.g., streets, parks abandon buildings, automobiles) and emergency shelters.

2. Outreach—Identify where your organization will target and tailor its outreach efforts to identify appropriate Veterans for this program.

3. Outreach—Describe your agency's involvement in the COC's Coordinated Assessment/Entry efforts. How does the plan fit into the COC's plan to end homelessness?

(b) Project Plan—VA wishes to provide the most appropriate housing based on the needs of the individual Veteran. Be sure to answer these questions based on the specific model chosen for this application. In approximately 25 pages, provide the following:

1. Project Plan—Specifically list the supportive services, frequency of occurrence and who will provide them and how they will help Veteran participants achieve residential stability, increase skill levels and or income, and increase self-determination (i.e., case management, frequency of individual/groups, employment services). Use a table or spreadsheet for this section (See Example 1).

Example 1:

Supportive service | Frequency of offering (daily, weekly, etc.) | Job title and credential required for the individual providing services | This service supports the achievement of residential stability, increase skill and income, or self-determination
Case management | Weekly | Case Manager—LCSW | Residential stability. Increased Skills and Income.
Finance Planning Group | Bi-Weekly | Life Skills Educator, BA/BS | Residential stability. Increased Skills and Income.

2. Project Plan—VA places emphasis on lowering barriers to admissions; describe the specific process and admission criteria for deciding which Veterans are appropriate for admission.

3. Project Plan—Address whether you plan on serving a mixed gender population or individuals with children.

4. Project Plan—Provide a listing and explanation of any gender-specific services.

5. Project Plan—How will the safety security and privacy of participants be ensured?

6. Project Plan—How, when, and by whom will participants' progress toward meeting their individual goals be monitored, evaluated, and documented?

7. Project Plan—Provide your agency's Individual Service Plan (ISP) methodology and the core items to be addressed in the plan.

8. Project Plan—How will permanent affordable housing be identified in the ISP and made known to participants who plan on leaving the supportive housing?

9. Project Plan—Will your agency provide follow-up services? If yes, describe those services, how often they will occur, and the duration of the follow-up.

10. Project Plan—Describe how Veteran participants will have a voice and aid in operating and maintaining the housing (i.e., volunteer time, paid positions, community governance meetings, peer support).

11. Project Plan—Describe your agency's responsibilities, as well as any sponsors or contractors' responsibilities in operating and maintaining the housing (i.e., sub-recipients).

12. Project Plan—Describe program policies regarding a clean and sober environment. Include in the description how participant relapse will be handled and how these policies will affect the admission and discharge criteria.

13. Project Plan—Provide and describe the type and implementation of the medication control system that will be used in this project (e.g., Medication Management, Medication Monitoring, or individual storage). For reference, applicants may review these requirements at http://www.va.gov/homeless/gpd.asp 2018 Notice of Funding and Documents—Medication Requirements.

14. Project Plan—Describe program polices regarding participant agreements, including any leases and subleases if used.

15. Project Plan—Describe program polices regarding extracurricular fees.

16. Project Plan—If co-located with other models, populations, or with other non-grant and per diem projects, how will differences in program rules and policies be handled (see example 2)?

Example 2:

Your agency has permanent housing, bridge housing, and low demand housing. These all serve different populations and require different levels of policy to properly function. How will this be accomplished?

17. Project Plan—Describe how in your chosen model you will aid Veterans who seek increased income or benefits.

18. Project Plan—Address how your agency will facilitate the provision of nutritional meals for the Veterans. Be sure to describe how Veterans with little or no income will be assisted.

19. Project Plan—VA places great emphasis on placing Veterans in the most appropriate housing situation as rapidly as possible. Applicants will provide a time line describing program admission to program exit for individuals in the program and the specific services including follow up that supports housing stabilization. Include evidence of coordination of transition services with which your agency expects to have for Veterans.

20. Project Plan—Describe how you will facilitate transportation of the Veteran participants with and without income to appointments, employment, and supportive services.

(c) Model Specific Questions:

Applicants should only respond to the following questions as they apply for the model selected in this application.

1. Bridge Housing Model—The availability of permanent housing options are key to the this model. Describe how your bridge housing is coordinated with permanent housing resources as part of a Housing First plan for homeless Veterans. Be sure to describe the referral process, how care will be coordinated while in GPD and ensure a housing outcome is achieved in an efficient manner. Include background on the amount of available permanent housing in the area you propose to serve.

2. Clinical Treatment Model—Describe how you will ensure homeless Veterans will be offered available permanent housing resources prior to entering treatment resources.

3. Clinical Treatment Model—Describe how you will ensure permanent housing and employment/income improvements will occur and lead to successful outcomes.

4. Low Demand Model—How will your agency manage a safe environment if a Veteran returns to the project impaired?

5. Low Demand Model—Will your safe environment include a sober lounge or safe room?

6. Low Demand Model—What approaches will be used to keep the Veterans engaged in services?

7. Hospital-to-Housing—Describe the medical evaluation process for identifying potential candidates for the program, the staff involved in that process, the evaluation criteria, and the roles of each individual.

8. Service Centers—The success of service centers is predicated upon the engagement of the homeless Veteran community. Describe how your agency will engage and influence homeless Veterans in how they it will address their housing, physical, medical, and mental health needs.

(d) Ability—In approximately 5 pages, describe your agency's experience regarding your selected population.

1. Ability—Provide a table or spreadsheet of the staffing plan for this project. Do not include resumes.

Example 3:

Job title | Brief (1-2) sentence description of responsibilities | Educational level | Hours per week allocated to GPD project | Amount of annual salary allocated to the GPD project ($)
Case manager | Responsible for working with the Veteran to develop and monitors an individual service plan (ISP), adjusts plans as needed. Coordinates with other community agencies to support | BSW | 30 | $35,250

2. Ability—Describe your agency's previous experience assessing and providing for the housing needs of homeless Veterans under your chosen model.

3. Ability—Describe your agency's previous experience assessing and providing supportive services to homeless Veterans under your chosen model.

4. Ability—Describe your agency's previous experience in assessing supportive service resources and entitlement benefits.

5. Ability—Describe your agency's previous experience with evaluating the progress of both individual participants and overall program effectiveness through using quality and performance data to make changes. Provide documentation of meeting past performance goals.

6. Ability—Is your agency licensed to provide clinical services? If yes, describe your licensure.

(e) Need—In approximately 5 pages, describe using reliable data from survey of homes population or other reports or data-gathering mechanisms, the substantial unmet needs particularly among your targeted Veteran population and those needs of the general homeless population. Also, describe why your agency chose this model of transitional housing? Include in your response how your agency determined the number of beds needed; or, for service centers, include how your agency determined the anticipated level of participation. How does this project model meet a need for the community and fit with the community's strategy to end homeless in the community?

(f) Coordination—In approximately 5 pages, describe and provide evidence of your agency's involvement in the homeless Veteran continuum.

1. Coordination—Provide documented evidence your agency is part of an ongoing community-wide planning process.

2. Coordination—How is your process designed to share information on available resources and reduce duplication among programs that serve homeless Veterans (i.e., letter of support from your local continuum of care)?

3. Coordination—How is your agency part of an ongoing community-wide planning process that is designed to share information on available resources and reduce duplication among programs that serve homeless Veterans?

4. Coordination—How has your agency coordinated GPD services with other programs offered in the Continuum(s) of Care (CoC) they currently serve?

5. Coordination—Provide documented evidence that your agency consulted directly with the closest VAMC Director regarding coordination of services for project participants; and provide your plan to assure access to health care, case management, and other care services.

(g) Additional Application Requirements—

1. Memorandum of Understanding (MOU) Hospital-to-Housing Documentation—A MOU between the local medical center and the applicant must be provided demonstrating the local medical center's detailed participation in the Hospital-to- Housing program. Included in this should be a detailing of acceptance criteria for Veterans being referred from local facility emergency departments and inpatient wards, a detailing of how follow-up care with the medical center is organized, and a commitment to engaging enrolled Veterans in permanent housing as part of the program.

2. Awardees will be required to support their request for payments with adequate fiscal documentation as to project income and expenses. Awardee agencies that have a negotiated Indirect Cost Agreement (IDC) must provide a copy of the IDC with this application if they wish to charge indirect costs to the grant. Without this document, only the de minimis rate would be allowed for indirect costs. All other costs will be considered only if they are direct costs.

Submission Dates and Times: An original signed, dated, completed application (plus two completed collated copies) and all required associated documents must be received in the GPD Program Office, VA Homeless Providers GPD Program Office, 10770 N. 46th Street, Suite C-200, Tampa, FL 33617; by 4:00 p.m. February 28, 2018.

In the interest of fairness to all competing applicants, this deadline is firm as to date and hour, and VA will treat any application that is received after the deadline as ineligible for consideration. Applicants should take this firm deadline into account and make early submission of their material to avoid any risk of loss of eligibility because of unanticipated delays or other delivery-related problems. For applications physically delivered (e.g., in person, or via United States Postal Service, FedEx, United Parcel Service, or any other type of courier), the VA GPD Program Office staff will accept the application and date stamp it immediately at the time of arrival. This is the date and time that will determine if the deadline is met for those types of delivery.

Applications must be received by the application deadline. Applications must arrive as a complete package to include VA collaborative partner materials (see application requirements). Materials arriving separately will not be included in the application package for consideration and may result in the application being rejected or not funded.

DO NOT fax or email the application as applications received via these means will be ineligible for consideration.

Award Notice: Although subject to change, the GPD Program Office expects to announce grant awards in July, 2018. The initial announcement will be made via news release which will be posted on VA's National GPD Program Web site at www.va.gov/homeless/gpd.asp. Following the initial announcement, the GPD Office will mail notification letters to the grant recipients. Applicants who are not selected will be mailed a declination letter within two weeks of the initial announcement.

Administrative and National Policy: It is important to be aware that VA places great emphasis on responsibility and accountability. VA has procedures in place to monitor services provided to homeless Veterans and outcomes associated with the services provided in grant and per diem-funded programs. Applicants should be aware of the following:

All awardees that are selected in response to this NOFA must meet the requirements of the current edition of the Life Safety Code of the National Fire Protection Association as it relates to their specific facility. Applicants should note that all facilities are to be protected throughout by an approved automatic sprinkler system unless a facility is specifically exempted under the Life Safety Code. Applicants should consider this when submitting their grant applications, as no additional funds will be made available for capital improvements under this NOFA.

Each program receiving funding will have a liaison appointed from a nearby VA medical facility to provide oversight and monitor services provided to homeless Veterans in the program.

Monitoring will include, at a minimum, a quarterly review of each per diem program's progress toward meeting VA's performance metrics, helping Veterans attain housing stability, adequate income support, and self-sufficiency as identified in each per diem application. Monitoring may also include a review of the agency's income and expenses as they relate to this project to ensure payment is accurate.

Each funded program will participate in VA's national program monitoring and evaluation as these procedures will be used to determine successful accomplishment of housing, employment, and self-sufficiency outcomes for each per diem-funded program.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on October 30, 2017, for publication.

Dated: October 30, 2017.
Michael Shores,
Director, Regulation Policy & Management, Office of the Secretary, Department of Veterans Affairs.

[FR Doc. 2017-23906 Filed 11-1-17; 8:45 am]

BILLING CODE P